NUCLEAR REGULATORY COMMISSION

10 CFR Part 50

[Docket No. PRM-50-127; NRC-2025-0060]

Revised Industry Codes and Standards for Production and Utilization Facilities

AGENCY: Nuclear Regulatory Commission.

ACTION: Petition for rulemaking; notice of docketing, and request for comment.

SUMMARY: The U.S. Nuclear Regulatory Commission (NRC) has received a petition for rulemaking (PRM) from Thomas Basso on behalf of the Nuclear Energy Institute, dated January 22, 2025, requesting that the NRC revise its regulations to remove specific conditions, clarify a specific requirement, and incorporate requested code cases to the next revisions of regulatory guides 1.84 and 1.147, which will be incorporated by reference into the agency's rulemaking on industry standards. The petition was docketed by the NRC on March 6, 2025, and has been assigned Docket No. PRM-50-127. The NRC is examining the issues raised in PRM-50-127 to determine whether they should be considered in rulemaking. The NRC is requesting public comment on this petition at this time.

DATES: Submit comments by August 5, 2025. Comments received after this date will be considered if it is practical to do so, but the NRC is able to assure consideration only for comments received on or before this date.

ADDRESSES: You may submit comments by any of the following methods; however, the NRC encourages electronic comment submission through the Federal rulemaking website:

• Federal rulemaking website: Go to https://www.regulations.gov and search for Docket ID NRC-2025-0060. Address questions about NRC dockets to Helen Chang; telephone: 301-415-3228; email: Helen.Chang@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. eastern time, Federal workdays; telephone: 301-415-1677.

You can read a plain language description of this PRM at https://www.regulations.gov/docket/NRC-2025-0060. For additional direction on obtaining information and submitting comments, see “Obtaining Information and Submitting Comments” in the SUPPLEMENTARY INFORMATION section of this document.

FOR FURTHER INFORMATION CONTACT: Christopher Prescott, U.S. Nuclear Regulatory Commission, Washington, DC 20555-0001; telephone: 301-415-7000, email: Christopher.Prescott@nrc.gov.

SUPPLEMENTARY INFORMATION:

I. Obtaining Information and Submitting Comments

A. Obtaining Information

Please refer to Docket ID NRC-2025-0060 when contacting the NRC about the availability of information for this action. You may obtain publicly available information related to this action by any of the following methods:

• Federal Rulemaking Website: Go to https://www.regulations.gov and search for Docket ID NRC-2025-0060.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: The NRC PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages electronic comment submission through the Federal Rulemaking website (https://www.regulations.gov). Please include Docket ID NRC-2025-0060 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. The Petitioner and Petition

The PRM was filed by Thomas Basso of the Nuclear Energy Institute. The PRM requests that the NRC revise its regulations at title 10 of the Code of Federal Regulations (10 CFR), section 50.55a, “Codes and standards,” to (1) remove specific conditions not necessary to ensure safety or are no longer needed by the industry, (2) clarify a specific requirement, and (3) incorporate requested code cases to the next revision of regulatory guides (RGs) 1.84 and 1.147, which will be incorporated by reference into the agency's rulemaking on industry standards. The petition referenced a letter from the American Society of Mechanical Engineers (ASME) (ML24296A006) as support for the inclusion of the requested code cases into RG 1.147. The petition was docketed by the NRC on March 6, 2025, and has been assigned Docket No. PRM-50-127. The PRM may be found in ADAMS under Accession Number ML25065A034.

III. Discussion of the Petition

The petitioner proposes the following specific changes to the NRC's regulations in 10 CFR 50.55a (also see Attachment 1 of the petition):

• Deletion of 10 CFR 50.55a(h): Remove the requirement to meet the Institute of Electrical and Electronics Engineers (IEEE) Standard Criteria for Safety Systems that are incorporated by reference. IEEE Std 279-1968, “Proposed IEEE Criteria for Nuclear Power Plant Protection Systems,” IEEE Std 279-1971, “Criteria for Protection Systems for Nuclear Power Generating Stations,” and IEEE Std 603-1991, “Criteria for Safety Systems for Nuclear Power Generating Stations,” would be removed. The petitioner states that these standards are dated and overly prescriptive for current technologies.

• Deletion of Section XI Condition 10 CFR 50.55a(b)(2)(xxvi): Remove the requirement to meet the condition for pressure testing of Class 1, 2, and 3 mechanical joints. The petitioner states that this condition does not result in any additional repair or replacement action by the licensee therefore is not needed. They state that post testing maintenance demonstrates that these joints are leak tight and are within the limits of operability. The petitioner states deletion of this condition would provide an efficiency gain by removing these redundant and unnecessary regulatory requirements.

• Inclusion or Clarification of 10 CFR 50.55a(y) to 10 CFR 50.55a(z): Expand the applicability of 10 CFR 50.55a(z) to include section (y) or revise section (y) to avoid using exemptions to approve alternatives. The petitioner states that placing the definitions in 10 CFR 50.55a(y) does not allow for an alternative definition to be proposed through 10 CFR 50.55a(z), which can lead to the need for an exemption if alternative definitions are needed. The petitioner states this needlessly adds administrative burden to the review and approval processes. They state that allowing alternatives for 10 CFR 50.55(y) within the process described in 10 CFR 50.55a(z) will avoid the need for exemptions to cover approval of alternatives that could otherwise be approved via the relief request process.

The petitioner states that these changes would remove conditions that are not necessary to ensure safety (as demonstrated by long-standing safety performance) or are no longer needed by the industry.

The petitioner also proposes the inclusion of ASME Section XI, Division 1 Code Cases N-752, N-88-2, N-926, N-935, and N-939 in draft Revision 22 to RG 1.147 and the following six code cases to draft Revision 41 to RG 1.84. The NRC has either conditioned or not approved these code cases for inclusion into the RG. The petitioner describes the basis for each change as follows (also see Attachment 2 of the petition).

• Code Case N-883, Rev. 0, Construction Prior to the Establishment of an Owner, NRC Status: Conditioned. The advanced reactor fleet intends to deploy using a variety of economic models, including factory-built reactors. Given very long lead times for component construction and the need for shorter plant construction durations, it is vital that fabrication begin well in advance of the establishment of the owner. The Code has always permitted smaller items (NPS 4) to be constructed using this approach; therefore, this is not new in the Code, it has simply been expanded to permit a wider range of construction.

• Code Case N-915, Rev. 0, Extension of Internal Audit and Supplier Audit Due Dates in Exigent Conditions, NRC Status: Not Approved. During the Pandemic, the industry successfully implemented audit extensions, without resulting in any documented safety consequence. The flexibility this Case provides is important given the scope and reach of the supply chain. It should also be taken into consideration that current digital technology provides a better capability for maintaining the integrity of remote verification than what was available when the requirements for verification were established. The addition of this code case to RG 1.84 will provide efficiency measures for all current licensees.

• Code Case N-916, Rev. 0, Remote Verification and Witness of Activities, NRC Status: Not Approved. During the COVID-19 pandemic, the industry successfully conducted remote verification and witnessing, without resulting in any documented safety consequences, essentially proving that the technology and tools are available to support remote witnessing. Code Case N-916 is specific to activities requiring verification or witness by Section III. It does not cover the acceptance of items or services through source verification. Certificate holders must still meet any applicable regulatory requirements.

• Code Case N-818, Rev. 1, Use of Non-Destructive Examination and Fracture Mechanics for Acceptance of Full Penetration Butt Welds In lieu of Weld Repair, NRC Status: Not Approved. Current fleet experience has shown that numerous in-service defects and failures initiate at the location of fabrication weld repairs. Code Case N-818 provides a technically sound basis, based on light-water reactor experience, to accept indications in lieu of weld repairs, reducing, not increasing, the likelihood of inservice failures.

• Code Case N-907, Rev. 0, Rules for Performing Preservice Inspection (PSI) During Construction, NRC Status: Not Approved. There is no safety concern with the timing of PSI, and there are significant efficiencies in schedule and potential savings in cost.

• Code Case N-659, Rev. 3, Use of Ultrasonic Examination in Lieu of Radiography for Weld Examination, NRC Status: Not Approved. Ultrasonic Examination (UT) for construction has a long history in commercial codes, demonstrating that this is a safe and practical alternative. Section III already permits its use and has long permitted UT for some geometries. Use of UT in the field during construction presents significant efficiencies in schedule and potential savings in cost.

IV. Conclusion

The NRC has determined that the petition meets the sufficiency requirements for docketing a PRM under 10 CFR 2.803, “Petition for rulemaking-NRC action.” The NRC will examine the issues raised in PRM-50-127 and any comments received in response to this comment request to determine whether these issues should be considered in rulemaking. The public can monitor further action on the rulemaking that will address this petition by searching Docket ID NRC-2025-0060 on the Federal rulemaking website, https://www.regulations.gov. The site allows members of the public to receive alerts when changes or additions occur in a docket folder. To subscribe: (1) navigate to the docket folder (NRC-2025-0060); (2) click the “Subscribe” button; and (3) enter an email address and click on the “Subscribe” button. The NRC also tracks the status of all NRC rules and PRMs on its website at https://www.nrc.gov/about-nrc/regulatory/rulemaking/rules-petitions.html.

Dated: June 3, 2025.
For the Nuclear Regulatory Commission.
Carrie Safford,
Secretary of the Commission.

[FR Doc. 2025-10324 Filed 6-5-25; 8:45 am]

BILLING CODE 7590-01-P